FEDERAL MINE SAFETY AND HEALTH REVIEW COMMISSION

29 CFR Part 2700

Procedural Rules To Permit Parties To File and Serve Documents Electronically

AGENCY: Federal Mine Safety and Health Review Commission.

ACTION: Interim rule; extension of comment period.

SUMMARY: The Federal Mine Safety and Health Review Commission is extending the comment period for the interim rule entitled, “Procedural Rules to Permit Parties to File and Serve Documents Electronically,” that appeared in the Federal Register of December 23, 2013. The Commission published a correction to the interim rule in the Federal Register on January 17, 2014.

DATES: The Commission is extending the comment period on the interim rule published in the Federal Register on December 23, 2013 (78 FR 77354). Submit either electronic or written comments on the interim rule by July 31, 2014.

ADDRESSES: Electronic comments should state “Comments on Electronic Rule Changes” in the subject line and be emailed to mmccord@fmshrc.gov. Written comments should be mailed to Michael A. McCord, General Counsel, Office of the General Counsel, Federal Mine Safety and Health Review Commission, 1331 Pennsylvania Avenue NW., Suite 520N, Washington, DC 20004-1710, or sent via facsimile to 202-434-9944.

FOR FURTHER INFORMATION CONTACT: Michael A. McCord, General Counsel, Office of the General Counsel, Federal Mine Safety and Health Review Commission, at (202) 434-9935 or mmccord@fmshrc.gov.

SUPPLEMENTARY INFORMATION: The Commission published in the Federal Register on December 23, 2013 (78 FR 77354), an interim rule with a request for comments. In the interim rule, the Commission amended its procedural rules to permit parties to file and serve documents electronically. The Commission is using a new electronic case management system (e-CMS) that will allow parties to file documents electronically with the Commission through a portal which may be accessed on the Commission's Web site (www.fmshrc.gov). The Commission expects that the e-CMS will become available for electronic filing in the near future and encourages parties to check the Commission's Web site for more specific information.

The Commission is extending the comment period on the interim rule through July 31, 2014, so that parties may include in their comments any experiences they have had using the e-CMS.

Dated: April 4, 2014.
Mary Lu Jordan,
Chairman, Federal Mine Safety and Health Review Commission.

[FR Doc. 2014-08078 Filed 4-10-14; 8:45 am]

BILLING CODE 6735-01-P